DEPARTMENT OF AGRICULTURE

Forest Service

Boundary Establishment for Middle Fork Hood River National Wild and Scenic River, Mt. Hood National Forest, Hood River County, Oregon

AGENCY: Forest Service, Agriculture (USDA).

ACTION: Notice of availability.

SUMMARY: In accordance with Section 3(b) of the Wild and Scenic Rivers Act, the USDA Forest Service, Washington Office, is transmitting the final boundary of Middle Fork Hood River National Wild and Scenic River to Congress. The Middle Fork Hood River Wild and Scenic River boundary description is available for review on https://www.fs.usda.gov/main/mthood/landmanagement/planning.

ADDRESSES: The Middle Fork Hood River Wild and Scenic River boundary is available for review at the website listed under SUMMARY, to view the documents in person, arrangements should be made in advance by contacting the offices listed under SUPPLEMENTARY INFORMATION.

FOR FURTHER INFORMATION CONTACT: Information may be obtained by contacting John Matthews, Regional Land Surveyor, by telephone at 503-808-2420 or via email at john.matthews@usda.gov. Alternatively, contact Michelle Lombardo on the Mt. Hood National Forest at 971- 303-2083 or michelle.lombardo@usda.gov. Individuals who use Telecommunication devices for the deaf (TDD) may call the Federal Information Relay Service (FIRS) at 800-877-8339 between 8 a.m. and 8 p.m., Eastern Standard Time, Monday through Friday.

SUPPLEMENTARY INFORMATION: The Middle Fork Hood River Wild and Scenic River boundary description is available for review on the website listed under SUMMARY, or in person by contacting the following offices: USDA Forest Service, Yates Building, 14th and Independence Avenues SW, Washington, DC 20024, phone—800-832-1355; Pacific Northwest Regional Office, 1220 SW Third Avenue, Portland, OR 97204, phone—503-808-2468; and Mt Hood National Forest Supervisor's Office, 16400 Champion Way, Sandy, OR 97055, phone—503-668-1700. Please contact the appropriate office prior to arrival.

Persons with disabilities who require alternative means of communication for program information (e.g., Braille, large print, audiotape, American Sign Language, etc.) should contact the responsible Agency or USDA's TARGET Center at 202-720-2600 (voice and TTY) or contact USDA through the Federal Relay Service at 800-877-8339. Additionally, program information may be made available in languages other than English.

The Omnibus Public Land Management Act of 2009 (Pub. L. 111-11) of March 30, 2009, designated Middle Fork Hood River, Oregon as a National Wild and Scenic River, to be administered by the Secretary of Agriculture. As specified by law, the boundary will not be effective until ninety days after Congress receives the transmittal.

Dated: November 7, 2022.
Jacqueline Emanuel,
Acting Associate Deputy Chief, National Forest System.

[FR Doc. 2022-24626 Filed 11-10-22; 8:45 am]

BILLING CODE 3411-15-P